DEPARTMENT OF ENERGY

Federal Energy Regulatory Commission

Combined Notice of Filings #1

Take notice that the Commission received the following exempt wholesale generator filings:

Docket Numbers: EG17-110-000.

Applicants: Hog Creek Wind Project, LLC.

Description: Notice of Self-Certification of EWG Status of Hog Creek Wind Project, LLC.

Filed Date: 5/26/17.

Accession Number: 20170526-5304.

Comments Due: 5 p.m. ET 6/16/17.

Docket Numbers: EG17-111-000.

Applicants: Mineral Point Energy LLC.

Description: Self-Certification of Exempt Wholesale Generator Status of Mineral Point Energy LLC.

Filed Date: 5/30/17.

Accession Number: 20170530-5093.

Comments Due: 5 p.m. ET 6/20/17.

Docket Numbers: EG17-112-000.

Applicants: Wrighter Energy LLC.

Description: Self-Certification of Exempt Wholesale Generator Status of Wrighter Energy LLC.

Filed Date: 5/30/17.

Accession Number: 20170530-5094.

Comments Due: 5 p.m. ET 6/20/17.

Take notice that the Commission received the following electric rate filings:

Docket Numbers: ER10-2964-013.

Applicants: Selkirk Cogen Partners, L.P.

Description: Notice of Non-Material Change in Status for Selkirk Cogen Partners, L.P.

Filed Date: 5/30/17.

Accession Number: 20170530-5050.

Comments Due: 5 p.m. ET 6/20/17.

Docket Numbers: ER16-204-003.

Applicants: Southwest Power Pool, Inc.

Description: Compliance filing: Tri-State Generation and Transmission Association Formula Rate Compliance Filing to be effective 1/1/2016.

Filed Date: 5/30/17.

Accession Number: 20170530-5130.

Comments Due: 5 p.m. ET 6/20/17.

Docket Numbers: ER16-1720-002.

Applicants: Invenergy Energy Management LLC.

Description: Supplement to December 23, 2016 Triennial Report for the Northwest Region of Invenergy Energy Management LLC.

Filed Date: 5/30/17.

Accession Number: 20170530-5141.

Comments Due: 5 p.m. ET 6/20/17.

Docket Numbers: ER17-1381-001.

Applicants: AEM Wind, LLC.

Description: Compliance filing: Revisions to Tariff to be effective 6/7/2017.

Filed Date: 5/30/17.

Accession Number: 20170530-5124.

Comments Due: 5 p.m. ET 6/20/17.

Docket Numbers: ER17-1699-000.

Applicants: Pacific Gas and Electric Company.

Description: § 205(d) Rate Filing: Unexecuted LGIA with Regents of the University of California (SA 344) to be effective 7/27/2017.

Filed Date: 5/26/17.

Accession Number: 20170526-5284.

Comments Due: 5 p.m. ET 6/16/17.

Docket Numbers: ER17-1700-000.

Applicants: PJM Interconnection, L.L.C.

Description: § 205(d) Rate Filing: Wholesale Market Participation Agreement No. 4707; Queue No. AC1-199 to be effective 5/8/2017.

Filed Date: 5/30/17.

Accession Number: 20170530-5075.

Comments Due: 5 p.m. ET 6/20/17.

Docket Numbers: ER17-1701-000.

Applicants: PJM Interconnection, L.L.C.

Description: § 205(d) Rate Filing: Service Agreement No. 4704; Queue No. AA2-057/AA2-165 to be effective 5/3/2017.

Filed Date: 5/30/17.

Accession Number: 20170530-5079.

Comments Due: 5 p.m. ET 6/20/17.

Docket Numbers: ER17-1703-000.

Applicants: New York Independent System Operator, Inc., Niagara Mohawk Power Corporation.

Description: § 205(d) Rate Filing: NYISO 205 filing re: LGIA (SA2334) NYISO, NMPC & Copenhagen Wind Farm to be effective 5/15/2017.

Filed Date: 5/30/17.

Accession Number: 20170530-5098.

Comments Due: 5 p.m. ET 6/20/17.

Docket Numbers: ER17-1704-000.

Applicants: PJM Interconnection, L.L.C.

Description: § 205(d) Rate Filing: Wholesale Market Participation Agreement No. 4708; Queue No. AC1-200 to be effective 5/8/2017.

Filed Date: 5/30/17.

Accession Number: 20170530-5120.

Comments Due: 5 p.m. ET 6/20/17.

Docket Numbers: ER17-1705-000.

Applicants: Electric Energy, Inc.

Description: § 205(d) Rate Filing: Revised and Restated Cost-Based Power Contract to be effective 6/1/2017.

Filed Date: 5/30/17.

Accession Number: 20170530-5121.

Comments Due: 5 p.m. ET 6/20/17.

Docket Numbers: ER17-1706-000.

Applicants: ISO New England Inc., New England Power Pool Participants Committee.

Description: § 205(d) Rate Filing: MR1 Revisions to Permit Use of Five-Minute Revenue Quality Meter Data to be effective 8/1/2017.

Filed Date: 5/30/17.

Accession Number: 20170530-5122.

Comments Due: 5 p.m. ET 6/20/17.

Docket Numbers: ER17-1707-000.

Applicants: Midcontinent Independent System Operator, Inc., ITC Interconnection LLC, Dairyland Power Cooperative.

Description: § 205(d) Rate Filing: 2017-05-30_SA 3013 ITC-DPC TIA to be effective 7/30/2017.

Filed Date: 5/30/17.

Accession Number: 20170530-5127.

Comments Due: 5 p.m. ET 6/20/17.

Docket Numbers: ER17-1708-000.

Applicants: Alabama Power Company.

Description: § 205(d) Rate Filing: Blountstown NITSA and NOA Filing to be effective 5/1/2017.

Filed Date: 5/30/17.

Accession Number: 20170530-5133.

Comments Due: 5 p.m. ET 6/20/17.

Docket Numbers: ER17-1709-000.

Applicants: PJM Interconnection, L.L.C.

Description: § 205(d) Rate Filing: Wholesale Market Participation Agreement No. 4709; Queue No. AC1-201 to be effective 5/8/2017.

Filed Date: 5/30/17.

Accession Number: 20170530-5142.

Comments Due: 5 p.m. ET 6/20/17.

Take notice that the Commission received the following electric reliability filings:

Docket Numbers: RR17-4-000.

Applicants: North American Electric Reliability Corp.

Description: Report of North American Electric Reliability Corporation of Comparisons of Budgeted to Actual Costs for 2016 for NERC and the Regional Entities.

Filed Date: 5/30/17.

Accession Number: 20170530-5129.

Comments Due: 5 p.m. ET 6/20/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 30, 2017.
Kimberly D. Bose,
Secretary.

[FR Doc. 2017-11534 Filed 6-2-17; 8:45 am]

BILLING CODE 6717-01-P